DEPARTMENT OF COMMERCE

Office of the Secretary

Agency Information Collection Activities; Submission to the Office of Management and Budget (OMB) for Review and Approval; Comment Request Generic Clearance Collection for Meetings, Events, Registrations, and Miscellaneous Forms

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on December 28, 2022, during a 60-day comment period. This notice allows for an additional 30 days for public comments.

Agency: Office of the Secretary, Department of Commerce.

Title: Generic Clearance Collection for Meetings, Events, Registrations, and Miscellaneous Forms.

OMB Control Number: 0690-NEW.

Form Number(s): None.

Type of Request: Regular submission, new information collection.

Number of Respondents: 17,000 (updated from 60-day FR Notice).

Average Hours per Response: 5 to 60 minutes (updated from 60-day FR Notice).

Burden Hours: 15,375 (updated from 60-day FR Notice).

Estimated Total Annual Cost to Public: $710,040.

Needs and Uses: This collection of information is needed to obtain information from the respondents who request meetings or appearances with Senior Officials or those who register to participate in DOC events, and conferences. The information is collected by the DOC employees who host the conferences and events, and those who manage calendars for Senior personnel. DOC collects common elements from interested respondents such as name, organization, address, country, phone number, email address, state, city or town, special accommodations requests and how the respondent learned of the event or conference. The information collection element may also include race, ethnicity, gender and veteran status, and other relevant information. The information is primarily used to assess attendance and assist DOC staff in preparations to serve individuals registering for online or in person events. If applicable, the information collection may be used to collect payment from the respondents and make hotel reservations and other special arrangements as necessary. Race, ethnicity, gender, and other demographic information obtained through registration is voluntary, and is used to monitor DOC's outreach and engagement of equity and support for underserved communities. This information is not used to evaluate any DOC program application and choosing not to provide this information will not affect the application process for any individual applying to a DOC program.

Affected Public: Individuals, Business or other for-profit, non-for-profit institutions, Federal Government, State, Local, or Tribal Government.

Frequency: On occasion.

Respondent's Obligation: Voluntary.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection.

Sheleen Dumas,
Department PRA Clearance Officer, Office of the Under Secretary of Economic Affairs, Commerce Department.

[FR Doc. 2023-12068 Filed 6-5-23; 8:45 am]

BILLING CODE 3510-17-P